DEPARTMENT OF JUSTICE

Immigration and Naturalization Service

[INS No. 2102-00]

Announcement of District Advisory Council on Immigration Matters 11th Meeting

AGENCY: Immigration and Naturalization Service, Justice.

ACTION: Notice of meeting.

SUMMARY: The Immigration and Naturalization Service (Service) has established a District Advisory Council on Immigration Matters (DACOIM) to provide the New York District Director of the Service with recommendations on ways to improve the response and reaction to customers in the local jurisdiction and to develop new partnerships with local officials and community organizations to build and enhance a broader understanding of immigration policies and practices. The purpose of this notice is to announce the forthcoming meeting.

DATES: The 11th meeting of the DACOIM is scheduled for January 25, 2001, at 1 p.m.

ADDRESSES: The meeting will be held at the Jacob Javitts Federal Building, 26 Federal Plaza, Room 537, New York, New York 10278.

FOR FURTHER INFORMATION CONTACT: Christian A. Rodriguez, Designated Federal Officer, Immigration and Naturalization Service, 26 Federal Plaza, Room 14-100, New York, New York, 10278, telephone: (212) 264-0736.

SUPPLEMENTARY INFORMATION: Meetings will be held tri-annually on the fourth Thursday during the months of January, May, and September.

Summary of Agenda

The purpose of the meeting will be to conduct general business, review subcommittee reports, and facilitate public participation. The DACOIM will be chaired by Jack Byrnes, Section Chief, New York District, Immigration and Naturalization Service.

Public Participation

The DACOIM meeting is open to the public, but advance notice of attendance is requested to ensure adequate seating. Persons planning to attend should notify the contact person at least two (2) days prior to the meeting. Members of the public may submit written statements at any time before or after the meeting for consideration by the DACOIM. Written statements should be sent to Christian A. Rodriguez, Designated Federal Officer, Immigration and Naturalization Service, 26 Federal Plaza, Room 14-100, New York, New York, 10278, telephone: (212) 264-0736. Only written statements received by 5 p.m. on January 22, 2001, will be considered for presentation at the meeting. Minutes of the meeting will be available upon request.

Dated: December 21, 2000.
Mary Ann Wyrsch,
Acting Commissioner, Immigration and Naturalization Service.

[FR Doc. 00-33276 Filed 12-28-00; 8:45 am]

BILLING CODE 4410-10-M